DEPARTMENT OF THE INTERIOR

Geological Survey

[GX21EE000101100]

Public Meeting of the National Earthquake Prediction Evaluation Council (NEPEC) Federal Advisory Committee

AGENCY: U.S. Geological Survey, Interior.

ACTION: Notice of public meeting (via teleconference).

SUMMARY: In accordance with the Federal Advisory Committee Act of 1972, the U.S. Geological Survey (USGS) is publishing this notice to announce that a Federal Advisory Committee meeting of the National Earthquake Prediction Evaluation Council (NEPEC) will take place.

DATES: The virtual meeting will be held on Thursday, September 23, 2021, at 12 Noon-2:30 p.m. (Eastern Standard Time).

ADDRESSES: The meeting will be held via teleconference.

FOR FURTHER INFORMATION CONTACT: Dr. Michael Blanpied, U.S. Geological Survey (USGS), by email at mblanpied@usgs.gov; or by telephone at (703) 648-6696.

SUPPLEMENTARY INFORMATION: The NEPEC provides advice and recommendations to the Director of the USGS on earthquake predictions and related scientific research, in support of the Director's delegated responsibility under the Stafford Act (Pub. L. 93-288) to issue timely warnings of potential geologic disasters.

Purpose of the Meeting: The USGS will update the NEPEC on work in response to prior recommendations on the implementation of a nationwide operational aftershock forecasting system, and on work to update inputs for the USGS National Seismic Hazard Model.

Agenda Topics

—Updates to the council on implementation of a nationwide operational aftershock forecasting system, its performance following recent key earthquakes, and planned improvements.

—Briefings on the preparation of an earthquake rupture source model to be incorporated into a planned 2023 update to the USGS National Seismic Hazard Model.

—Public comment period.

Meeting Accessibility/Special Accommodations: The virtual meeting is open to the public beginning at 12 Noon-2:30 p.m. (Eastern Standard Time) on September 23. Members of the public wishing to participate in the virtual meeting should contact Dr. Michael Blanpied by email at mblanpied@usgs.gov to register no later than three (3) business days prior to the meeting. Virtual meeting (conference) call-in information will be provided at that time, along with any final modifications to the schedule and agenda.

Time will be allowed at the virtual meeting for any individual or organization wishing to provide public comments. Depending on the number of people who wish to speak and the time available, the time for individual comments may be limited. To allow for full consideration of information by the NEPEC members, written notice must be provided to Dr. Michael Blanpied, U.S. Geological Survey (USGS), by email at mblanpied@usgs.gov; or by telephone at (703) 648-6696, at least three (3) business days prior to the meeting. Any written comments received will be provided to the NEPEC members.

Public Disclosure of Comments

Before including your address, phone number, email address, or other personal identifying information in your comment, you should be aware that your entire comment—including your personal identifying information—may be made publicly available at any time. While you may ask us in your comment to withhold your personal identifying information from public review, we cannot guarantee that we will be able to do so.

Authority: 5 U.S.C. appendix 2.

Dionne Duncan-Hughes,
Information Management Specialist.

[FR Doc. 2021-19269 Filed 9-3-21; 8:45 am]

BILLING CODE 4338-11-P